NUCLEAR REGULATORY COMMISSION

[Docket No. 52-039-COL; ASLBP No. 09-890-10-COL-BD01]

PPL Bell Bend, LLC, Bell Bend Nuclear Power Plant; Establishment of Atomic Safety and Licensing Board

Pursuant to delegation by the Commission dated December 29, 1972, published in the Federal Register, 37 FR 28,710 (1972), and the Commission's regulations, see10 CFR 2.104, 2.300, 2.313, 2.318, and 2.321, notice is hereby given that an Atomic Safety and Licensing Board (Board) is being established to preside over the following proceeding: PPL Bell Bend, LLC, (Bell Bend Nuclear Power Plant).

This proceeding concerns requests for hearing from petitioners Gene Stilp in his individual capacity; Gene Stilp for Taxpayers and Ratepayers United; and Eric Epstein in his individual capacity. The hearing requests were submitted in response to a March 18, 2009 Notice of Hearing, Opportunity to Petition for Leave to Intervene, and Associated Order (74 FR 11,606). Petitioners challenge the application filed by PPL Bell Bend, LLC pursuant to Subpart C of 10 CFR part 52 for a combined license for the Bell Bend Nuclear Power Plant, to be located in Luzerne County, Pennsylvania.

The Board is comprised of the following administrative judges:

William J. Froehlich, Chair, Atomic Safety and Licensing Board Panel, U.S. Nuclear Regulatory Commission, Washington, DC 20555-0001;

Michael F. Kennedy, Atomic Safety and Licensing Board Panel, U.S. Nuclear Regulatory Commission, Washington, DC 20555-0001;

Randall J. Charbeneau, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 28th day of May 2009.
E. Roy Hawkens,
Chief Administrative Judge, Atomic Safety and Licensing Board Panel.

[FR Doc. E9-13022 Filed 6-3-09; 8:45 am]

BILLING CODE 7590-01-P